DEPARTMENT OF DEFENSE

Office of the Secretary

[Transmittal No. 24-13]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-13, Policy Justification, and Sensitivity of Technology.

Dated: January 13, 2026.
Stephanie J. Bost,
Alternate OSD Federal Register Liaison Officer, Department of Defense.

BILLING CODE 6001-FR-P

BILLING CODE 6001-FR-C

Transmittal No. 24-13

Notice of Proposed Issuance of Letter of Offer Pursuant to Section 36(b)(1) of the Arms Export Control Act, as amended

(i) Prospective Purchaser: Government of Israel

(ii) Total Estimated Value:

Major Defense Equipment * | $5.61 billion
Other | $1.14 billion
TOTAL | $6.75 billion

Funding Source: Foreign Military Financing and National Funds

(iii) Description and Quantity or Quantities of Articles or Services under Consideration for Purchase:

Major Defense Equipment (MDE):

Two thousand one hundred sixty-six (2,166) GBU-39/B Small Diameter Bombs Increment 1 (SDB-I)

Two thousand eight hundred (2,800) MK 82 General Purpose, 500-pound bomb bodies

Thirteen thousand (13,000) KMU-556E/B, KMU-556H/B with SABR-Y, KMU-556F/B, or KMU-556J/B Joint Direct Attack Munition (JDAM) Guidance Kits for the MK-84 bomb body

Three thousand four hundred seventy-five (3,475) KMU-557E/B, KMU-557F/B, KMU-557H/B with SABR-Y, or KMU-557J/B JDAM Guidance Kits for the BLU-109 bomb body

One thousand four (1,004) KMU-572E/B, KMU-572F/B, KMU-572H/B with SABR-Y, or KMU-572J/B JDAM Guidance Kits for GBU-38v1

Seventeen thousand four hundred seventy-five (17,475) FMU-152A/B fuzes

Non-MDE:

The following non-MDE items will also be included: FMU-139 fuzes; bomb components; munitions support and support equipment; spare parts, consumables and accessories, and repair and return support; United States (U.S.) Government and contractor engineering, logistics, and technical support services; and other related elements of logistics and program support.

(iv) Military Department: Air Force (IS-D-AHA)

(v) Prior Related Cases, if any: IS-D-ACQ, IS-D-ACO, IS-D-ACZ, IS-D-ABO, IS-D-ACA, IS-D-ADA, IS-D-ABZ, IS-D-QFZ, IS-D-ACB

(vi) Sales Commission, Fee, etc., Paid, Offered, or Agreed to be Paid: None known at this time

(vii) Sensitivity of Technology Contained in the Defense Article or Defense Services Proposed to be Sold: See Attached Annex

(viii) Date Report Delivered to Congress: February 7, 2025

* as defined in Section 47(6) of the Arms Export Control Act.

POLICY JUSTIFICATION

Israel—Munitions, Guidance Kits, Fuzes, and Munitions Support

The Government of Israel has requested to buy two thousand one hundred sixty-six (2,166) GBU-39/B Small Diameter Bombs Increment 1 (SDB-I); two thousand eight hundred (2,800) MK 82 General Purpose, 500-pound bomb bodies; thirteen thousand (13,000) KMU-556E/B, or KMU-556H/B with SABR-Y, KMU-556F/B, or KMU-556J/B Joint Direct Attack Munition (JDAM) Guidance Kits for the MK-84 bomb body; three thousand four hundred seventy-five (3,475) KMU-557E/B, or KMU-557F/B, or KMU-557H/B with SABR-Y, or KMU-557J/B JDAM Guidance Kits for the BLU-109 bomb body; one thousand four (1,004) KMU-572E/B, or KMU-572F/B, KMU-572H/B with SABR-Y, or KMU-572J/B JDAM Guidance Kits for GBU-38v1; and seventeen thousand four hundred seventy-five (17,475) FMU-152A/B fuzes. The following non-MDE items will also be included: FMU-139 fuzes; bomb components; munitions support and support equipment; and other related elements of logistics and program support. The estimated total cost is $6.75 billion.

The U.S. is committed to the security of Israel, and it is vital to U.S. national interests to assist Israel to develop and maintain a strong and ready self-defense capability. This proposed sale is consistent with those objectives.

The proposed sale improves Israel's capability to meet current and future threats, strengthen its homeland defense, and serves as a deterrent to regional threats. Israel already has these weapons in its inventory and will have no difficulty absorbing this equipment into its armed forces.

The proposed sale of this equipment and support will not alter the basic military balance in the region.

This proposed sale will be from both U.S. inventory, as available, and from principal contractors The Boeing Company, located in St. Louis, MO; ATK Tactical Systems Company LLC, located in Rocket Center, WV; L3Harris Fuzing and Ordnance Systems, located in Cincinnati, OH; and McAlester Army Ammunition Plant, located in McAlester, OK. At this time, the U.S. Government is not aware of any offset agreement proposed in connection with this potential sale. Any offset agreement will be defined in negotiations between the purchaser and the contractor.

Implementation of this proposed sale will not require the assignment of any additional U.S. Government or contractor representatives to Israel.

There will be no adverse impact on U.S. defense readiness as a result of this proposed sale.

Transmittal No. 24-13

Notice of Proposed Issuance of Letter of Offer Pursuant to Section 36(b)(1) of the Arms Export Control Act

Annex

Item No. vii

(vii) Sensitivity of Technology:

1. Joint Direct-Attack Munitions (JDAM) consist of a bomb body paired with a warhead-specific tail kit containing an Inertial Navigation System (INS)/Global Positioning System (GPS) (using either Selective Availability Anti-Spoofing Module (SAASM) and or M-code) guidance capability that converts unguided free-fall bombs into accurate, adverse weather “smart” munitions. The JDAM weapon can be delivered from modest standoff ranges at high or low altitudes against a variety of land and surface targets during the day or night. The JDAM can receive target coordinates via preplanned mission data from the delivery aircraft, by onboard aircraft sensors (i.e., forward-looking infrared, radar, etc.) during captive carry, or from a third-party source via manual or automated aircrew cockpit entry. The KMU-556 converts the MK 84 into a GBU-31v1 JDAM. The KMU-557 converts the BLU-109 into a GBU-31v3 JDAM. The KMU-572 converts the MK 82 into a GBU-38v1 JDAM.

2. The MK 82 GP bomb is a 500-pound, free-fall, unguided, low-drag weapon. It is designed for soft, fragment-sensitive targets and is not intended for hard targets or penetrations. The explosive filling is usually tritonal, though other compositions have sometimes been used.

3. The FMU-139 or FMU-152 Joint Programmable Fuze (JPF) are a multi-delay, multi-arm impact fuze compatible with GP blast, fragmentation, and hardened-target penetrator weapons. The JPF settings are cockpit-selectable in flight when used with numerous precision-guided weapons.

4. The GBU-39 Small Diameter Bomb Increment 1 (SDB-I) All Up Round (AUR) is a 250-pound GPS-aided inertial navigation system with day or night, adverse weather, conventional, air-to-ground precision glide weapon capabilities able to strike fixed and stationary re-locatable non-hardened targets from standoff ranges. It is intended to enable aircraft to carry a high number of bombs. Aircraft are able to carry four SDBs in place of one 2,000-pound bomb.

5. The highest level of classification of defense articles, components, and services included in this potential sale is SECRET.

6. If a technologically advanced adversary were to obtain knowledge of the specific hardware and software elements, the information could be used to develop countermeasures that might reduce system effectiveness or be used in the development of a system with similar or advanced capabilities.

7. A determination has been made that Israel can provide substantially the same degree of protection for the sensitive technology being released as the U.S. Government. This sale is necessary in furtherance of the U.S. foreign policy and national security objectives outlined in the Policy Justification.

8. All defense articles and services listed in this transmittal have been authorized for release and export to the Government of Israel.

[FR Doc. 2026-00766 Filed 1-15-26; 8:45 am]

BILLING CODE 6001-FR-P